DEPARTMENT OF AGRICULTURE

Animal and Plant Health Inspection Service

[Docket No. APHIS-2011-0008]

Notice of Request for Approval of an Information Collection; National Animal Health Monitoring System; Emergency Epidemiologic Investigations

AGENCY: Animal and Plant Health Inspection Service, USDA.

ACTION: New information collection; comment request.

SUMMARY: In accordance with the Paperwork Reduction Act of 1995, this notice announces the Animal and Plant Health Inspection Service's intention to initiate Emergency Epidemiologic Investigations, an information collection to support the National Animal Health Monitoring System.

DATES: We will consider all comments that we receive on or before July 18, 2011.

ADDRESSES: You may submit comments by either of the following methods:

• Federal eRulemaking Portal: Go to http://www.regulations.gov/fdmspublic/component/main?main=DocketDetail&d=APHIS-2011-0008 to submit or view comments and to view supporting and related materials available electronically.

• Postal Mail/Commercial Delivery: Please send one copy of your comment to Docket No. APHIS-2011-0008, Regulatory Analysis and Development, PPD, APHIS, Station 3A-03.8, 4700 River Road Unit 118, Riverdale, MD 20737-1238. Please state that your comment refers to Docket No. APHIS-2011-0008.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on the Emergency Epidemiologic Investigations, contact Mr. Chris Quatrano, Industry Analyst, Centers for Epidemiology and Animal Health, VS, APHIS, 2150 Centre Avenue, Building B MS 2E7, Fort Collins, CO 80526; (970) 494-7207. For copies of more detailed information on the information collection, contact Mrs. Celeste Sickles, APHIS' Information Collection Coordinator, at (301) 851-2908.

SUPPLEMENTARY INFORMATION: Title: National Animal Health Monitoring System; Emergency Epidemiologic Investigations.

OMB Number: 0579-xxxx.

Type of Request: Approval of a new information collection.

Abstract: Under the Animal Health Protection Act (7 U.S.C. 8301 et seq.), the Animal and Plant Health Inspection Service (APHIS) of the United States Department of Agriculture is authorized, among other things, to protect the health of our Nation's livestock and poultry populations by preventing the introduction and interstate spread of serious diseases and pests of livestock and for eradicating such diseases from the United States when feasible. In connection with this mission, APHIS is often asked by State and local animal health officials to carry out epidemiological investigations as diseases impact animal health populations. This activity will be used to collect information on:

• Outbreaks of animal diseases with unknown etiology and transmission, which are highly contagious, and which have high case fatality.

• Outbreaks of known animal diseases which are highly contagious, virulent, and have unknown source of infection or mode of transmission.

• Outbreaks of emerging, zoonotic, or foreign animal diseases within the United States.

• Any event with a substantial increase in the number of cases.

The investigations will normally consist of an on-farm questionnaire administered by APHIS-designated data collectors. The information collected through Emergency Epidemiologic Investigations will be analyzed and used to:

• Identify the scope of the problem.

• Define and describe the affected population and the susceptible population.

• Predict or detect trends in disease emergence and movement.

• Understand the risk factors for disease.

• Estimate the cost of disease control and develop intervention options.

• Make recommendations for disease control.

• Provide parameters for animal disease spread models.

• Provide lessons learned and guidance on the best ways to avoid future outbreaks based on thorough analysis of data from current outbreak(s).

• Identify areas for further research.

We are asking the Office of Management and Budget (OMB) to approve our use of these information collection activities for 3 years.

The purpose of this notice is to solicit comments from the public (as well as agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 0.725 hours per response.

Respondents: Livestock owners, State and local animal health officials.

Estimated annual number of respondents: 3,000.

Estimated annual number of responses per respondent: 1.

Estimated annual number of responses: 3,000.

Estimated total annual burden on respondents: 2,175 hours. (Due to averaging, the total annual burden hours may not equal the product of the annual number of responses multiplied by the reporting burden per response.)

All responses to this notice will be summarized and included in the request for OMB approval. All comments will also become a matter of public record.

Done in Washington, DC, this 11th day of May 2011.
Kevin Shea,
Acting Administrator, Animal and Plant Health Inspection Service.

[FR Doc. 2011-12021 Filed 5-16-11; 8:45 am]

BILLING CODE 3410-34-P